DEPARTMENT OF HEALTH AND HUMAN SERVICES

Centers for Disease Control and Prevention

[30Day-23-23AH]

Agency Forms Undergoing Paperwork Reduction Act Review

In accordance with the Paperwork Reduction Act of 1995, the Centers for Disease Control and Prevention (CDC) has submitted the information collection request titled “Community Health Workers for COVID Response and Resilient Communities (CCR) National Evaluation” to the Office of Management and Budget (OMB) for review and approval. CDC previously published a “Proposed Data Collection Submitted for Public Comment and Recommendations” notice on October 21, 2022 to obtain comments from the public and affected agencies. CDC received two non-substantive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Community Health Workers for COVID Response and Resilient Communities (CCR) National Evaluation—New—National Center for Chronic Disease Prevention and Health Promotion (NCCDPHP), Centers for Disease Control and Prevention (CDC).

Background and Brief Description

CDC is requesting approval for a New data collection entitled “Community Health Workers for COVID Response and Resilient Communities (CCR) National Evaluation.” OMB approval is requested for three years.

In 2021, CDC funded DP21-2109, “Community Health Workers for COVID Response and Resilient Communities (CCR)”. DP21-2109 funds 68 CCR recipients across the United States to train and deploy community health workers (CHWs) to support COVID-19 response efforts and to build and strengthen community resilience to fight COVID-19 through addressing existing health disparities. DP21-2109 is funded for a three-year period, from September 2021 through August 2024. At the same time, CDC also funded two recipients under CDC-RFA-DP21-2110, “Community Health Workers for COVID Response and Resilient Communities (CCR)—Evaluation and Technical Assistance” (CCR-ETA recipients) to design and conduct the national evaluation of DP21-2109 CCR. These two recipients will lead the information collection described in this request.

Both DP21-2109 and DP21-2110 were funded through the Coronavirus Aid, Relief, and Economic Security (CARES) Act of 2020 funds allocated to CDC to achieve the goal of protecting the American people from the public health impacts of COVID-19. The novel Coronavirus Disease 2019 has impacted communities nationwide. Racial and ethnic minority groups, economically disadvantaged persons, justice-involved individuals, people experiencing homelessness, and people who use drugs and/or have certain underlying medical conditions have a higher risk of having severe COVID-19 illness and adverse outcomes. Thus, these groups represent the CCR populations of focus.

The purpose of the DP21-2109 CCR national evaluation is to monitor implementation and evaluate implementation and outcomes of CCR. CDC will use resulting information to describe the implementation of CCR at the national level, inform future community-based and CHW-led COVID response programs, and, in conjunction with secondary data sources, assess some important health outcomes, including vaccination rates among populations of focus. This request includes the following information collections:

• CCR Recipient Survey: The survey will collect information about: (1) program management; (2) organizational infrastructure; (3) populations of focus served by CCR funded efforts; (4) CHW hiring and compensation; (5) CHW training, certification, and integration into community-based and care COVID response teams; (6) CHW referral tracking systems; (7) non-CDC resources supporting the program; and (8) other aspects of program implementation. The survey will be administered once—at the end of program Year 3—in both English and Spanish using web-based survey software.

• CHW Survey: The survey will collect information about: (1) CHW compensation and benefits; (2) core CHW roles during CCR implementation; (3) integration of CHWs into community-based and care COVID response teams; (4) core competency training; (5) supervision; (6) CHW-initiated referrals; and (7) CHW involvement in decision-making. The survey will be administered once—at the end of program Year 3—in English and Spanish using web-based survey software.

CDC requests OMB approval for an estimated 194 annual burden hours. There is no cost to respondents other than their time to participate.

Estimated Annualized Burden Hours
Type of respondents | Form name | Number of respondents | Number of responses per respondent | Average burden per response (in hours)
CDC-RFA-DP21-2109 CCR recipients | CCR Recipient Survey | 23 | 1 | 25/60
CCR CHWs | CCR CHW Survey | 367 | 1 | 30/60

Jeffrey M. Zirger,
Lead, Information Collection Review Office, Office of Public Health Ethics and Regulations, Office of Science, Centers for Disease Control and Prevention.

[FR Doc. 2023-12357 Filed 6-8-23; 8:45 am]

BILLING CODE 4163-18-P